DEPARTMENT OF HEALTH AND HUMAN SERVICES

Notice of Meeting of the Advisory Committee on Blood Safety and Availability

AGENCY: Office of the Secretary.

ACTION: Notice of meeting.

The Advisory Committee on Blood Safety and Availability will meet on Tuesday, April 25, 2000, from 9 a.m. to 5 p.m. and on Wednesday, April 26, 2000 from 9 a.m. to 3 p.m. The meeting will take place at the Hyatt Regency Capitol Hill Hotel, 400 New Jersey Ave., NW., Washington, DC 20001. The meeting will be entirely open to the public.

On April 25 the Committee will consider how strategies to reduce errors and accidents in transfusion medicine can reconcile the right of the patient to know the consequences of any treatment received, the need of regulatory agencies for information necessary for them to fulfill their statutory oversight responsibilities, and the interest of society in perfecting mechanisms that identify and correct latent, life-threatening flaws in critical health care systems.

On April 26 the Committee will consider incremental reimbursement policies for blood and blood products in response to the introduction of new safety measures.

Public comment will be solicited both days. Public comment will be limited to three minutes per speaker. Those who wish to have printed material distributed to Advisory Committee members should submit thirty (30) copies to the Executive Secretary prior to close of business April 10, 2000.

FOR FURTHER INFORMATION CONTACT: Stephen D. Nightingale, M.D., Executive Secretary, Advisory Committee on Blood Safety and Availability, Department of Health and Human Servcies, Office of Public Health and Safety, 200 Independence Avenue SW., Rm 736E, Washington, DC 20201. Phone (202) 690-5560 FAX (202) 690-7560 e-mail stephendnightingale@osophs. dhhs.gov.

Dated: March 9, 2000.
Stephen D. Nightingale,
Executive Secretary, Advisory Committee on Blood Safety and Availability.

[FR Doc. 00-6430 Filed 3-15-00; 8:45 am]

BILLING CODE 4160-17-M